DEPARTMENT OF HEALTH AND HUMAN SERVICES

Health Resources and Services Administration

Advisory Council on Blood Stem Cell Transplantation; Notice of Meeting

In accordance with section 10(a)(2) of the Federal Advisory Committee Act (Pub. L. 92-463), notice is hereby given of the following meeting:

Name: Advisory Council on Blood Stem Cell Transplantation.

Date and Time: February 4, 2011, from 3 p.m. to 5 p.m. EST.

ACTION: Notice of Advisory Council on Blood Stem Cell Transplantation (ACBSCT) Meeting to be Held by Conference Call.

SUMMARY: The ACBSCT will be conducting a conference call to discuss:

(1) Final language of recommendations from November 15, 2010, Council meeting; and

(2) Interim Report to Congress.

DATES: The conference call will be held on February 4, 2011, at 3 p.m. to 5 p.m. EST. Participants must dial: (800) 988-9536 and enter the corresponding pass code 2741198. Patricia A. Stroup, MBA, MPA, is the call leader. Participants should call no later than 2:50 p.m. EST in order for the logistics to be set up. Participants are asked to register for the conference by contacting Passy Tongele at (301) 443-0437 or e-mail ptongele@hrsa.gov. The registration deadline is February 2, 2011. The Department will try to accommodate those wishing to participate in the call.

Any member of the public can submit written materials that will be distributed to Council members prior to the conference call. Parties wishing to submit written comments should ensure that the comments are received no later than February 2, 2011, for consideration. Comments should be submitted to Passy Tongele, Healthcare Systems Bureau, HRSA, Parklawn Building, Room 12C-06, 5600 Fishers Lane, Rockville, Maryland 20857; telephone (301) 443-0437; fax (301) 594-6095; or e-mail to ptongele@hrsa.gov.

Members of the public can present oral comments during the conference call during the public comment period. If a member of the public wishes to speak, the Department should be notified at the time the participant registers. Others members of the public will be allocated time if time permits.

FOR FURTHER INFORMATION CONTACT: Patricia A. Stroup, MBA, MPA, Executive Secretary, ACBSCT, Healthcare Systems Bureau, HRSA, Parklawn Building, Room 12C-06, 5600 Fishers Lane, Rockville, Maryland 20857; telephone (301) 443-1127; fax (301) 594-6095; or e-mail to pstroup@hrsa.gov.

SUPPLEMENTARY INFORMATION: The purpose of this call is to hear discussion from the ACBSCT members on the final language of the eight recommendations approved at the November 15, 2010, Council meeting and to discuss the Interim Report to Congress. Public Law 111-264 states that “* * * the Secretary of Health and Human Services * * * in consultation with the Advisory Council * * * shall submit to Congress an interim report not later than 180 days after the date of enactment of this Act describing (A) the methods to distribute Federal funds to cord blood banks used at the time of submission of the report; (B) how cord blood banks contract with collection sites for the collection of cord blood units; and (C) recommendations for improving the methods to distribute Federal funds described in subparagraph (A) in order to encourage the efficient collection of high-quality and diverse cord blood units.”

Dated: January 14, 2011.
Robert Hendricks,
Director, Division of Policy and Information Coordination.

[FR Doc. 2011-1266 Filed 1-20-11; 8:45 am]

BILLING CODE 4165-15-P